DEPARTMENT OF COMMERCE

International Trade Administration

[A-475-801, A-427-801]

Ball Bearings and Parts Thereof From France and Italy: Rescission of Antidumping Duty Administrative Review

AGENCY: Import Administration, International Trade Administration, Department of Commerce.

SUMMARY: In response to requests from interested parties, the Department of Commerce (the Department) initiated administrative reviews of the antidumping duty orders on ball bearings and parts thereof from France and Italy. The period of review is May 1, 2011, through September 14, 2011. As a result of the withdrawals of the requests for review, the Department is rescinding these reviews.

DATES: Effective Date: September 4, 2012.

FOR FURTHER INFORMATION CONTACT: Sandra Dreisonstok or Minoo Hatten, AD/CVD Operations, Office 1, Import Administration, International Trade Administration, U.S. Department of Commerce, 14th Street and Constitution Avenue NW, Washington, DC 20230; telephone: (202) 482-0768 or (202) 482-1690, respectively.

SUPPLEMENTARY INFORMATION:

Background

On July 10, 2012, the Department published a notice of initiation of the administrative reviews of the antidumping duty orders on ball bearings and parts thereof from France and Italy in accordance with section 751(a) of the Tariff Act of 1930 (the Act) and 19 CFR 351.221(c)(1)(i). See Initiation of Antidumping and Countervailing Duty Administrative Reviews and Request for Revocations in Part, 77 FR 40565 (July 10, 2012).

Rescission of Reviews

In accordance with 19 CFR 351.213(d)(1), the Department will rescind an administrative review, “if a party that requested a review withdraws the request within 90 days of the date of publication of notice of initiation of the requested review.” The following companies timely filed requests for review and submitted timely withdrawals of their requests between June 29 and July 24, 2012:

Country | Company
France | Kongskilde Limited, NTN-SNR Roulements, S.A., SKF France S.A. and SKF Aerospace France S.A.S.
Italy | SKF Industrie S.p.A. and Somecat S.p.A., Schaeffler Italia SpA.

Because we received no other requests for review of these companies, and because all parties withdrew their requests for review within 90 days of the date of publication of the notice of initiation, we are rescinding the administrative reviews of the orders with respect to all companies. This rescission is in accordance with 19 CFR 351.213(d)(1). The Department intends to issue appropriate assessment instructions to U.S. Customs and Border Protection within 15 days after publication of this notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning destruction of proprietary information disclosed under an APO in accordance with 19 CFR 351.305(a)(3). Timely written notification of the return or destruction of APO materials or conversion to judicial protective order is hereby requested. Failure to comply with the regulations and terms of an APO is a violation which is subject to sanction.

This notice is published in accordance with section 777(i)(1) of the Act and 19 CFR 351.213(d)(4).

Dated: August 28, 2012.
Gary Taverman,
Senior Advisor for Antidumping and Countervailing Duty Operations.

[FR Doc. 2012-21731 Filed 8-31-12; 8:45 am]

BILLING CODE 3510-DS-P